DEPARTMENT OF DEFENSE

Department of the Air Force

[Docket ID: USAF-2015-0002]

Privacy Act of 1974; System of Records

AGENCY: Department of the Air Force, DoD.

ACTION: Notice to delete a System of Records.

SUMMARY: The Department of the Air Force is deleting a system of records notice in its existing inventory of record systems subject to the Privacy Act of 1974, as amended. The system notice is entitled “F044 AF SG J, Air Force Blood Program.”

DATES: Comments will be accepted on or before April 27, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force, Air Force Privacy Act Office, Office of Warfighting Integration and Chief Information officer, ATTN: SAF/CIO A6, 1800 Air Force Pentagon, Washington, DC 20330-1800, or by phone at (571) 256-2515.

SUPPLEMENTARY INFORMATION: The Department of the Air Force systems of records notices subject to the Privacy Act of 1974, as amended, have been published in the Federal Register and are available from the address in FOR FURTHER INFORMATION CONTACT or from the Defense Privacy and Civil Liberties Office at http://dpcld.defense.gov/.

The Department of the Air Force proposes to delete a system of records notice from its inventory of record systems subject to the Privacy Act of 1974, as amended. The proposed deletion is not within the purview of subsection (r) of the Privacy Act of 1974, as amended, which requires the submission of a new or altered system report.

Dated: March 20, 2015.
Aaron Siegel,
Alternate OSD Federal Register Liaison Officer, Department of Defense.

Deletion:

F044 AF SG J

SYSTEM NAME:

Air Force Blood Program (June 16, 2003, 68 FR 35646)

Reason: Defense Health Agency has published a new System of Record Notice entitled “EDHA 25 DoD, Enterprise Blood Management System (EBMS)” to cover all DoD medical facilities Blood Programs.

[FR Doc. 2015-06882 Filed 3-25-15; 8:45 am]

BILLING CODE 5001-06-P